NATIONAL TRANSPORTATION SAFETY BOARD

Sunshine Act Meeting

TIME AND DATE: 9:30 a.m., Wednesday, November 5, 2014.

PLACE: NTSB Conference Center, 429 L'Enfant Plaza SW., Washington, DC 20594.

STATUS: The one item is open to the public.

MATTERS TO BE CONSIDERED:

8602 Aircraft Accident Report—Crash Following Encounter with Instrument Meteorological Conditions After Departure from Remote Landing Site, State of Alaska, Department of Public Safety, Eurocopter AS350 B3, N911AA, Talkeetna, Alaska, March 30, 2013.

NEWS MEDIA CONTACT: Telephone: (202) 314-6100.

The press and public may enter the NTSB Conference Center one hour prior to the meeting for set up and seating.

Individuals requesting specific accommodations should contact Rochelle Hall at (202) 314-6305 or by email at Rochelle.Hall@ntsb.gov by Wednesday, October 29, 2014.

The public may view the meeting via a live or archived webcast by accessing a link under “News & Events” on the NTSB home page at www.ntsb.gov.

Schedule updates, including weather-related cancellations, are also available at www.ntsb.gov.

FOR MORE INFORMATION CONTACT: Candi Bing at (202) 314-6403 or by email at bingc@ntsb.gov.

FOR MEDIA INFORMATION CONTACT: Eric Weiss, (202) 314-6100 or by email at eric.weiss@ntsb.gov.

Dated: October 17, 2014.
Candi R. Bing,
Federal Register Liaison Officer.

[FR Doc. 2014-25111 Filed 10-17-14; 4:15 pm]

BILLING CODE 7533-01-P